DEPARTMENT OF HEALTH AND HUMAN SERVICES

Administration for Children and Families

Submission for OMB Review; Comment Request

Title: Revised Form OCSE-100, State Plan for Child Support Under Title IV-D of the Social Security Act.

OMB No.: 0970-0017.

Description: The state plan preprint and amendments serve as a contract with OCSE in outlining the activities the state will perform as required by law in order for states to receive federal funds. We are asking for approval to revise one state plan preprint page to reflect new federal requirements regarding medical support enforcement.

Response: 54.

Annual Burden Estimates
Instruments | Number of respondents | Number of responses per respondent | Average burden hours per response | Total burden hours
OCSE-100 | 54 | 1 | .72 | 39

Estimated Total Annual Burden Hours: 39.

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: December 16, 2002.
Robert Sargis,
Reports Clearance Officer

[FR Doc. 03-564 Filed 1-10-03; 8:45 am]

BILLING CODE 4184-01-M